ENVIRONMENTAL PROTECTION AGENCY

[EPA-HQ-OPP-2024-0093; FRL-12542-01-OCSPP]

Notice of Receipt of Requests To Voluntarily Cancel Certain Pesticide Registrations and/or Amend Registrations To Terminate Certain Uses (December 2024)

AGENCY: Environmental Protection Agency (EPA).

ACTION: Notice.

SUMMARY: This document announces the Agency's receipt of and solicits comment on requests by registrants to voluntarily cancel their pesticide registration of certain products and/or to amend their product registrations to terminate one or more uses. In accordance with the Federal Insecticide, Fungicide, and Rodenticide Act (FIFRA), EPA provides a periodic notice of receipt addressing requests received by EPA since the last notice of receipt was issued and uses the month and year in the title to help distinguish one document from the other. EPA intends to grant these requests at the close of the comment period for this announcement unless the Agency receives substantive comments during the comment period that would merit further review of the requests, or the request is withdrawn by the registrant. If these requests are granted, EPA will issue an order in the Federal Register cancelling the listed product registrations, after which any sale, distribution, or use of the products listed in this document will only be permitted after the registrations have been cancelled if such sale, distribution, or use is consistent with the terms as described in the final order.

DATES: Comments and withdrawal requests must be received on or before September 10, 2025.

ADDRESSES: Submit your comments, identified by docket identification (ID) number EPA-HQ-OPP-2024-0093, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. Executive Summary

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What action is the Agency taking?

This document announces receipt by EPA of requests from registrants to voluntarily cancel their pesticide registration and/or amend their product registrations to terminate one or more uses of the products listed in Unit II, that are currently registered under FIFRA section 3 (7 U.S.C. 136a) or section 24(c) (7 U.S.C. 136v(c)). Unless the Agency determines that there are substantive comments that warrant further review of the requests or the registrants withdraw their requests, EPA intends to issue an order in the Federal Register canceling and/or amending the affected registrations.

C. What is EPA's authority for taking this action?

FIFRA section 6(f)(1) (7 U.S.C. 136d(f)(1)) provides that a registrant of a pesticide product may at any time request that any of its pesticide registrations be canceled. Before acting on a request for voluntary cancellation, EPA must provide at least 30-day public comment period on the request. FIFRA further provides that, before acting on a request for voluntary cancellation or termination of any minor agricultural use, EPA must provide a 180-day comment period unless:

1. The registrants request a waiver of the comment period, or

2. The EPA Administrator determines that continued use of the pesticide would pose an unreasonable adverse effect on the environment.

D. What should I consider as I prepare my comments for EPA?

1. Submitting CBI. Do not submit this information to EPA through email or https://www.regulations.gov. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

E. How can a registrant withdraw their request for voluntary cancellation?

Registrants who choose to withdraw their request for voluntary cancellation should submit a withdrawal request in writing to the person listed under FOR FURTHER INFORMATION CONTACT. If the products have been subject to a previous cancellation action, the effective date of cancellation and all other provisions of any earlier cancellation action are controlling.

II. Requests To Voluntarily Cancel and/or Amend Certain Registrations

The registrations with pending voluntary requests for cancellation are listed in sequence by registration number (or company number and 24(c) number) in Table 1 of this unit.

Table 1—Registrations With Pending Voluntary Requests for Cancellation
Registration No. | Company No. | Product name | Active ingredients
228-335 | 228 | Riverdale Horsepower 8000 Lawn Weed Killer | Dicamba, dimethylamine salt (029802/2300-66-5)—(1.08%), MCPA, dimethylamine salt (030516/2039-46-5)—(10.97%), Triclopyr, triethylamine salt (116002/57213-69-1)—(1.25%).
228-371 | 228 | Riverdale MTCA Premium Selective Herbicide | Clopyralid (117403/1702-17-6)—(1.3%), MCPA, dimethylamine salt (030516/2039-46-5)—(37.9%), Triclopyr, triethylamine salt (116002/57213-69-1)—(3.8%).
228-420 | 228 | Chaser Ultra 2 Selective Herbicide | 2,4-DP-p, DMA salt (031403/104786-87-0)—(8.1%), Fluroxypyr 1-methylheptyl ester (128968/81406-37-3)—(9.78%), MCPA, dimethylamine salt (030516/2039-46-5)—(41.6%).
228-424 | 228 | Horsepower Concentrate | Dicamba, dimethylamine salt (029802/2300-66-5)—(1.35%), MCPA, dimethylamine salt (030516/2039-46-5)—(13.72%), Triclopyr, triethylamine salt (116002/57213-69-1)—(1.56%).
279-3558 | 279 | Accurate Extra Herbicide | Metsulfuron-methyl (122010/74223-64-6)—(15%), Thifensulfuron (128845/79277-27-3)—(37.5%), Tribenuron-methyl (128887/101200-48-0)—(18.75%).
279-9546 | 279 | F6119 Turf and IVM Herbicide | 2,4-D, 2-ethylhexyl ester (030063/1928-43-4)—(65.52%), Carfentrazone-ethyl (128712/128639-02-1)—(1.44%).
499-556 | 499 | TC-326 | Chlorfenapyr (129093/122453-73-0)—(.5%), Pyriproxyfen (129032/95737-68-1)—(.05%).
5383-146 | 5383 | Troyshield FSP40 | Sodium pyrithione (088004/15922-78-8)—(40%).
5481-477 | 5481 | RID-A-VEC | Metam-sodium (039003/137-42-8)—(42%).
7969-324 | 7969 | Kixor Herbicide | Saflufenacil (118203/372137-35-4)—(29.74%).
7969-332 | 7969 | Optill Pro Powered by Kixor Herbicide | Imazethapyr (128922/81335-77-5)—(50.2%), Saflufenacil (118203/372137-35-4)—(17.8%), dimethenamid-P (120051/163515-14-8)—(63.9%).
10779-1 | 10779 | Instant Power Sewer Line Root Destroyer | Copper sulfate pentahydrate (024401/7758-99-8)—(99%).
34688-86 | 34688 | Triameen Y12D Preservative | 1,3-Propanediamine, N-(3-aminopropyl)-N-dodecyl- (067300/2372-82-9)—(91.4%).
67979-9 | 67979 | COT102 X COT67B Cotton Seed | Bacillus thuringiensis FLCry1Ab protein and the genetic material necessary for its production (vector pNOV4641/pNOV1914) in Event COT67B cotton (SYN-IR67B-1) (016486/)—(.0041%), Bacillus thuringiensis Vip3Aa19 protein and the genetic material necessary for its production (vector pCOT1) in Event COT102 cotton (SYN-IR102-7) (016484/)—(.0036%).
67979-21 | 67979 | COT67B Cotton | Bacillus thuringiensis FLCry1Ab protein and the genetic material necessary for its production (vector pNOV4641/pNOV1914) in Event COT67B cotton (SYN-IR67B-1) (016486/)—(.0029%).
70060-12 | 70060 | CSR-2 | Sodium chlorite (020502/7758-19-2)—(5%).
70060-13 | 70060 | CSR-1 | Sodium chlorite (020502/7758-19-2)—(5%).
70060-32 | 70060 | Aseptrol CSR Wax Paper | Sodium chlorite (020502/7758-19-2)—(.63%).
72056-2 | 72056 | Clethodim 2EC Herbicide | Clethodim (121011/99129-21-2)—(26.4%).
72056-3 | 72056 | Clethodim Technical (37% MUP) | Clethodim (121011/99129-21-2)—(37%).
82633-66 | 82633 | Sharda Thiodicarb Technical | Thiodicarb (114501/59669-26-0)—(99%).
87243-4 | 87243 | Amiflex | Amitraz (106201/33089-61-1)—(2%).
94396-15 | 94396 | Knighthawk | Prodiamine (110201/29091-21-2)—(65%).
94396-25 | 94396 | Knighthawk 4F | Prodiamine (110201/29091-21-2)—(40.7%).
100522-11 | 100522 | SA Pendimethalin Technical | Pendimethalin (108501/40487-42-1)—(97.2%).
AK-220001 | 67690 | Sonar Genesis | Fluridone (112900/59756-60-4)—(6.3%).
IN-150001 | 279 | AIM EC | Carfentrazone-ethyl (128712/128639-02-1)—(22.3%).
LA-210003 | 5481 | Envoke Herbicide | 2-Pyridinesulfonamide, N-[[(4,6-dimethoxy-2-pyrimidinyl) amino]carbonyl]-3-(2,2,2-trifluoroethoxy)-, monosodium salt, monohydrate (119009/290332-10-4)—(75%).
OR-150009 | 8033 | Topsin M WSB | Thiophanate-methyl (102001/23564-05-8)—(70%).
OR-170001 | 70506 | Penncozeb 75 DF | Mancozeb (014504/8018-01-7)—(75%).
OR-190013 | 100 | Northstar Herbicide | Dicamba, sodium salt (029806/1982-69-0)—(43.9%), Primisulfuron-methyl (128973/86209-51-0)—(7.5%).
VT-160001 | 100 | Reflex Herbicide | Sodium salt of fomesafen (123802/108731-70-0)—(22.8%).
WA-180008 | 10163 | GWN-10073-10120 | Copper hydroxide (023401/20427-59-2)—(5%).

The product registrations with pending voluntary requests for amendments to terminate uses are listed in sequence by registration number (or company number and 24(c) number) in Table 2 of this unit.

Table 2—Product Registrations With Pending Requests for Amendment
Registration No. | Company No. | Product name | Active ingredient | Uses to be terminated
42750-58 | 42750 | Glyphosate 62% | Glyphosate, isopropylamine salt (103601/38641-94-0)—(62%) | Tobacco use.
85678-4 | 85678 | Ethephon 78% MUP | Ethephon (099801/16672-87-0)—(77.6%) | Residential turf/lawns; institutional turf; parks, recreational fields & sod farms use.

The name and address of record for the requesting registrants are listed in sequence by EPA company number in Table 3 of this unit. The company number corresponds to the first part of the EPA registration numbers of the products listed in Tables 1 and 2 of this unit.

Table 3—Registrants Requesting Voluntary Cancellation
Company No. | Company name and address
100 | Syngenta Crop Protection, LLC, 410 Swing Road, P.O. Box 18300, Greensboro, NC 27419-8300.
228 | NuFarm Americas, Inc., 4000 Aerial Center Pkwy., Suite 101, Morrisville, NC 27560.
279 | FMC Corporation, 2929 Walnut Street, Philadelphia, PA 19104.
499 | BASF Agricultural Solutions US, LLC, 2 T.W. Alexander Drive, P.O. Box 13528, Research Triangle Park, NC 27709.
5383 | Troy Chemical Corporation, Agent Name: Troy Corporation, 8 Vreeland Road, Florham Park, NJ 07932.
5481 | AMVAC Chemical Corporation, 4695 MacArthur Court, Suite 1200, Newport Beach, CA 92660-1706.
7969 | BASF Agricultural Solutions US, LLC, Agricultural Products, 2 T.W. Alexander Drive, Research Triangle Park, NC 27709.
8033 | Nippon Soda Co., Ltd., Agent Name: Nisso America, Inc., 379 Thornall Street, 5th Floor, Edison, NJ 08837.
10163 | Gowan Company, LLC, 370 S. Main St., Yuma, AZ 85366.
10779 | Instant Power Corporation, 1255 Viceroy, Dallas, TX 75247.
34688 | Nouryon Surface Chemistry, LLC, 100 Matsonford Road, Building 5, Radnor, PA 19087.
42750 | Albaugh, LLC, 1525 NE 36th Street, Ankeny, IA 50021.
67690 | Sepro Corporation, 11550 N. Meridian Street, Suite 600, Carmel, IN 46032.
67979 | Syngenta Seeds, LLC—Field Crops—NAFTA, 9 Davis Drive, Research Triangle Park, NC 27709.
70060 | BASF Corporation, Attention: Janet Cerra, 100 Park Avenue, Florham Park, NJ 07932.
70506 | UPL NA, Inc., P.O. Box 12219, Research Triangle Park, NC 27709.
72056 | Nisso BASF Agro Co., Ltd., Agent Name: Compliance Services International, 7501 Bridgeport Way West, Lakewood, WA 98499-2423.
82633 | Sharda Cropchem Limited, Agent Name: Wagner Regulatory Associates, Inc., P.O. Box: 640, Hockessin, DE 19707-0640.
85678 | RedEagle International, LLC, Agent Name: Wagner Regulatory Associates, Inc., 7217 Lancaster Pike, Suite A, P.O. Box 640, Hockessin, DE 19707.
87243 | Veto-Pharma S.A.S., Agent Name: Technology Sciences Group, Inc., 1150 18th St. NW, Suite 475, Washington, DC 20036.
94396 | Aquatrols Corporation of America, Agent Name: Biologic Regulatory Consulting, Inc., 10529 Heritage Bay Blvd., Naples, FL 34120.
100522 | Sullution Agro, LLC, Agent Name: Pyxis Regulatory Consulting, Inc., 535 Dock Street, Suite 211, Tacoma, WA 98402.

III. What is the Agency's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register.

FIFRA section 6(f)(1)(B) (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and/or amendments to terminate uses are granted, the Agency intends to publish the cancellation order in the Federal Register.

In any order issued in response to these requests for cancellation of certain product registrations and/or for amendments to terminate uses, EPA proposes to include the following provisions for the treatment of any existing stocks of the products listed in Tables 1 and 2 of Unit II.

The registrant of 5383-146 has requested to sell and distribute existing stocks for 18-months after the effective date of cancellation. The registrant will be permitted to sell and distribute existing stocks of voluntarily canceled products for 18-months after the effective date of the cancellation, which will be the date of publication of the cancellation order in the Federal Register. Thereafter, the registrant will be prohibited from selling or distributing product 5383-146, identified in Table 1 of Unit II., except for export consistent with FIFRA section 17 (7 U.S.C. 136o) or for proper disposal.

For all other voluntary product cancellations identified in Table 1 of Unit II., registrants will be permitted to sell and distribute existing stocks of the voluntarily canceled products for 1 year after the effective date of the cancellation, which will be the date of publication of the cancellation order in the Federal Register. Thereafter, registrants will be prohibited from selling or distributing all other products identified in Table 1 of Unit II., except for export consistent with FIFRA section 17 (7 U.S.C. 136o) or for proper disposal.

Once EPA has approved product labels reflecting the requested amendments to terminate uses, identified in Table 2 of Unit II., registrants will be permitted to sell or distribute products under the previously approved labeling for a period of 18 months after the date of Federal Register publication of the cancellation order, unless other restrictions have been imposed. Thereafter, registrants will be prohibited from selling or distributing the products whose labels include the terminated uses identified in Table 2 of Unit II., except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

(Authority: 7 U.S.C. 136 et seq.)

Dated: August 7, 2025.
Charles Smith,
Director, Registration Division, Office of Pesticide Programs.

[FR Doc. 2025-15214 Filed 8-8-25; 8:45 am]

BILLING CODE 6560-50-P